OFFICE OF PERSONNEL MANAGEMENT

Notice of Submission for Renewal of a Previously Approved Information Collection: Interview Survey Form, INV 10

AGENCY: Office of Personnel Management.

ACTION: 30-Day Notice and request for comments.

SUMMARY: The National Background Investigation Bureau (NBIB), Office of Personnel Management (OPM) is notifying the general public and other federal agencies that OPM is seeking Office of Management and Budget (OMB) approval of a revised information collection control number 3206-0106, Interview Survey Form, INV 10.

DATES: Comments are encouraged and will be accepted until July 25, 2019.

ADDRESSES: Interested persons are invited to submit written comments on the proposed information collection to the Office of Information and Regulatory Affairs, Office of Management Budget, 725 17th Street NW, Washington, DC 20503, Attention: Desk Officer for the Office of Personnel Management or by electronic mail to oira_submission@omb.eop.gov or faxed to (202) 395-6974;

FOR FURTHER INFORMATION CONTACT: A copy of this information collection, with applicable supporting documentation, may be obtained by contacting National Background Investigations Bureau, U.S. Office of Personnel Management, 1900 E Street NW, Washington, DC 20415, Attention: Donna McLeod or by electronic mail at FISFormsComments@opm.gov.

SUPPLEMENTARY INFORMATION: This notice announces that OPM has submitted to OMB a request for review and clearance of a revised information collection, control number 3206-0106, Interview Survey Form, INV 10. The public has an additional 30-day opportunity to comment.

The Interview Survey Form, INV 10 is mailed by OPM, to a random sampling of record and personal sources contacted during background investigations when investigators have performed fieldwork. The INV 10 is used as a quality control instrument designed to ensure the accuracy and integrity of the investigative product. The form queries the recipient about the investigative procedure exhibited by the investigator, the investigator's professionalism, and the information discussed and reported. In addition to the preformatted response options, OPM invites the recipients to respond with any other relevant comments or suggestions.

The 60 day Federal Register Notice was published on February 1, 2019 (84 FR 1250). No comments were received. As part of the 30 day Federal Register notice, OPM proposes the following revisions to the Privacy Act Statement: Privacy Act Statement Pursuant to 5 U.S.C. 552a (e)(3), this Privacy Act Statement explains why OPM is requesting the information on this form. Authority: 5 U.S.C. 301; the Federal Records Act, 44 U.S.C. 3101. Purpose: The primary purpose of the information you furnish will be to assess the quality, conduct, and professionalism of the investigator listed above during the course of the investigation. The agency uses this information to appraise, instruct, and improve the performance of Federal staff and contractors to assist in its personnel management evaluation and to determine if additional training or other action is necessary. Routine Uses: Information from this form may be disclosed to the investigator listed on the form, if requested and required under the provisions of the Freedom of Information Act and/or the Privacy Act. It also may be disclosed externally as a “routine use” to other entities as described in the OPM Internal-20 Integrity Assurance Officer Control Files system of records notice, available at www.opm.gov/privacy. Consequences of Failure to Provide Information: Completing this form is voluntary. There are no adverse effects if you do not complete this form.

Analysis

Agency: NBIB, U.S. Office of Personnel Management.

Title: Interview Survey Form, INV 10.

OMB Number: 3206-0106.

Affected Public: A random sampling of record and personal sources contacted during background investigations when investigators have performed fieldwork.

Number of Respondents: 67,391.

Estimated Time Per Respondent: 6 minutes.

Total Burden Hours: 6,739.

Office of Personnel Management.
Alexys Stanley,
Regulatory Affairs Analyst.

[FR Doc. 2019-13417 Filed 6-24-19; 8:45 am]

BILLING CODE 6325-53-P